OFFICE OF THE UNITED STATES TRADE REPRESENTATIVE

Request for Comments From the Public on Haiti's Eligibility for Benefits Under the Haitian Hemispheric Opportunity Through Partnership Encouragement Act of 2006

AGENCY: Office of the United States Trade Representative.

ACTION: Notice and request for comments.

SUMMARY: The Haitian Hemispheric Opportunity Through Partnership Encouragement Act Implementation Subcommittee of the Trade Policy Staff Committee (the “Subcommittee”) is requesting that the public provide written comments on whether Haiti meets the eligibility requirements set out in 5002(d) of the Haitian Hemispheric Opportunity Through Partnership Encouragement Act (HOPE). The Subcommittee will consider these comments in developing a recommendation to the President on Haiti's eligibility under HOPE. The President is required to make this determination no later than March 20, 2007.

DATES: Public Comments are due at the Office of the U.S. Trade Representative (USTR) by noon, Tuesday, February 13, 2007.

ADDRESSES: Submit comments by electronic mail (e-mail) to: FR0504@USTR.EOP.GOV. For assistance or if unable to submit comments by e-mail, contact Gloria Blue, Executive Secretary, Trade Policy Staff Committee, at (202) 395-6143.

FOR FURTHER INFORMATION CONTACT: For procedural questions, please contact Gloria Blue, Office of the U.S. Trade Representative, 600 17th Street, NW., Room F516, Washington, DC 20508, at (202) 395-3475. All other questions should be directed to Viondette Lopez, Director of Caribbean Affairs, Office of the U.S. Trade Representative, at (202) 395-6117.

SUPPLEMENTARY INFORMATION: The Caribbean Basin Economic Recovery Act (CBERA) (Pub. L. 98-67) (19 U.S.C. 2701 et seq.), as amended by HOPE, authorizes the President to designate Haiti as a beneficiary country eligible for duty-free treatment for certain apparel articles as well as certain wire harness automotive components, if he determines that Haiti meets the eligibility criteria set forth in: (1) Section 213a of the CBERA (section 5002(d) of HOPE) and (2) section 502 of the 1974 Act. Application of preferential treatment, however, is also conditioned on Haiti meeting conditions set out in section 5002(e) of HOPE. Written comments are requested on whether Haiti meets the eligibility requirements set out below.

Eligibility Requirements Under Section 5002(d)

(1) IN GENERAL—Haiti shall be eligible for preferential treatment under this section if the President determines and certifies to Congress that Haiti—

(A) has established, or is making continual progress toward establishing—

(i) a market-based economy that protects private property rights, incorporates an open rules-based trading system, and minimizes government interference in the economy through measures such as price controls, subsidies, and government ownership of economic assets;

(ii) the rule of law, political pluralism, and the right to due process, a fair trial, and equal protection under the law;

(iii) the elimination of barriers to United States trade and investment, including by—

(I) the provision of national treatment and measures to create an environment conducive to domestic and foreign investment;

(II) the protection of intellectual property; and

(III) the resolution of bilateral trade and investment disputes;

(iv) economic policies to reduce poverty, increase the availability of health care and educational opportunities, expand physical infrastructure, promote the development of private enterprise, and encourage the formation of capital markets through microcredit or other programs;

(v) a system to combat corruption and bribery, such as signing and implementing the Convention on Combating Bribery of Foreign Public Officials in International Business Transactions; and

(vi) protection of internationally recognized worker rights, including the right of association, the right to organize and bargain collectively, a prohibition on the use of any form of forced or compulsory labor, a minimum age for the employment of children, and acceptable conditions of work with respect to minimum wages, hours of work, and occupational safety and health;

(B) does not engage in activities that undermine United States national security or foreign policy interests; and

(C) does not engage in gross violations of internationally recognized human rights or provide support for acts of international terrorism and cooperates in international efforts to eliminate human rights violations and terrorist activities.

Requirements for Submissions: In order to facilitate the prompt processing of submissions, USTR requires electronic e-mail submissions in response to this notice. Hand-delivered submissions will not be accepted. Submissions should be single-copy transmissions in English with the total submission not to exceed 10 single-spaced standard letter-size pages. The e-mail transmission should use the following subject line: “Haiti Eligibility for Benefits under HOPE”. Documents must be submitted as MSWord (“.doc”), WordPerfect (“.wpd”), ADOBE (“.pdf”), or text (“.txt”) files. Spreadsheets submitted as supporting documentation are acceptable as Quattro Pro or Excel files, pre-formatted for printing only on 8½ × 11 inch paper. To the extent possible, any data attachments to the submission should be included in the same file as the submission itself, and not as separate files. Submissions in response to this notice will be subject to public inspection by appointment with the staff of the USTR Public Reading Room except for information granted “business confidential” status pursuant to 15 CFR 2003.6.

If the submission contains business confidential information, a non-confidential version of the submission must also be submitted that indicates where confidential information was redacted by inserting asterisks where material was deleted. In addition, the confidential version must be clearly marked “BUSINESS CONFIDENTIAL” at the top and bottom of each page of the document. The non-confidential version must be clearly marked “PUBLIC” or “NON-CONFIDENTIAL” at the top and bottom of each page. Documents that are submitted without any marking might not be accepted or will be considered public documents.

For any document containing business confidential information submitted as an electronic attached file to an e-mail transmission, the file name of the business confidential version should begin with the characters “BC-”, and the file name of the public version should begin with the character “P-”. The “BC-” or “P-” should be followed by the name of the party (government, company, union, association, etc.) which is submitting the comments.

E-mail submissions should not include separate cover letters or messages in the message area of the e-mail; information that might appear in any cover letter should be included directly in the attached file containing the submission itself, including the sender's identifying information with telephone number, fax number, and e-mail address. The email address for these submissions is FR0504@USTR.EOP.GOV. Documents not submitted in accordance with these instructions might not be considered in this review. If unable to provide submissions by e-mail, please contact Gloria Blue, Executive Secretary, Trade Policy Staff Committee, at (202) 395-6143 to arrange for an alternative method of transmission.

Public versions of all documents relating to this review will be available for public review approximately three weeks after the due date by appointment in the USTR Public Reading Room, 1724 F Street NW., Washington, DC. Availability of documents may be ascertained, and appointments may be made from 9:30 a.m. to noon and 1 p.m. to 4 p.m., Monday through Friday, by calling 202-395-6186.

Carmen Suro-Bredie,
Chairman, Trade Policy Staff Committee.

[FR Doc. E7-1121 Filed 1-23-07; 8:45 am]

BILLING CODE 3190-W7-P